ENVIRONMENTAL PROTECTION AGENCY

[FRL-7162-2]

Agency Information Collection Activities: Submission for OMB Review; Comment Request; Institutional Controls Tracking Systems and Costs Survey

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Institutional Controls Tracking Systems and Costs Survey, EPA ICR No. 2043.01. The ICR describes the nature of the information collection and its expected burden and cost; where appropriate, it includes the actual data collection instrument.

DATES: Comments must be submitted on or before April 22, 2002.

ADDRESSES: Send comments, referencing EPA ICR No. 2043.01, to the following addresses: Susan Auby, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by E-mail at Auby.Susan@epa.gov, or download off the Internet at http://www.epa.gov/icr and refer to EPA ICR No. 2043.01. For technical questions about the ICR, contact Michael E. Bellot by phone at (703) 603-8905.

SUPPLEMENTARY INFORMATION: Title: Institutional Controls Tracking Systems and Costs Survey (EPA ICR No. 2043.01). This is a new collection.

Abstract: The Office of Emergency and Remedial Response (OERR) is currently researching the development of a system for tracking institutional controls at Superfund sites. Institutional controls are non-engineered site measures such as administrative or legal controls that minimize the potential for exposure to contamination or protect the integrity of a remedy by limiting land or resource use. Proper implementation, monitoring, and enforcement of institutional controls are critical to EPA's core mission of protecting human health and the environment. Although institutional control mechanisms are necessary parts of many site remedies, they are often implemented, monitored, or enforced by state, tribal or local governments. OERR is proposing to complete a study that includes: (1) Conducting research into the types of institutional controls tracking systems that are currently in use and evaluating their relative strengths and weaknesses; (2) developing a focused list of data collection points and definitions; (3) developing and piloting a process for the collection of data to be used to estimate data availability and the cost and time required for data acquisition; (4) developing a data entry process; and (5) researching the feasibility of sharing data and linking federal, state, tribal and local institutional control tracking in a web-based system. In a second phase of this study, OERR is planning to develop the tracking system, establish data linkages, and populate the database. This proposed ICR specifies information necessary to determine what types of institutional controls tracking systems are currently in use; their purpose, scope, and structure; the kinds of data they track; their data entry, quality assurance, administration, and access features; data querying capabilities; compatibility with a future EPA system; development, population, and operating costs; and lessons learned from developing, implementing, and operating these systems. EPA estimates that approximately 52 States, 10 Tribes, and no more than 200 local agencies (planning, zoning, and real estate recording offices) will be surveyed. If approved by OMB, respondents will have 60 days from receipt of the survey to submit their responses. In addition to the survey, this proposed ICR includes EPA requests for clarifications, questions and updates to the survey, and agency visits. Clarifications and updates will be necessary if EPA has follow-up questions regarding responses or if EPA requires more information to understand a tracking system. Up to 50 agencies may be required to submit more detailed descriptions. EPA proposes to visit up to 20 agencies to evaluate institutional controls tracking systems. Responding to the survey is entirely voluntary. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on October 2, 2001 (66 FR 50182); 19 comments were received.

Burden Statement: The annual public reporting and record keeping burden for this collection of information is estimated to average 10 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: States, Tribes, and Local Agencies.

Estimated Number of Respondents: 262.

Frequency of Response: One time only.

Estimated Total Annual Hour Burden: 2,620 hours.

Estimated Total Annualized Capital, O&M Cost Burden: $0.

Send comments on the Agency's need for this information, the accuracy of the provided burden estimates, and any suggested methods for minimizing respondent burden, including through the use of automated collection techniques to the addresses listed above. Please refer to EPA ICR No. 2043.01 in any correspondence.

Dated: March 14, 2002.
Oscar Morales,
Director, Collection Strategies Division.

[FR Doc. 02-6997 Filed 3-21-02; 8:45 am]

BILLING CODE 6560-50-P